DEPARTMENT OF VETERANS AFFAIRS

[OMB Control No. 2900-New (VDBCS)]

Agency Information Collection: Emergency Submission for OMB Review; Comment Request

AGENCY: Office of Policy, Planning and Preparedness, Department of Veterans Affairs

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). VA is requesting an emergency clearance for the Veterans' Disability Benefits Commission Survey regarding disability rating system for veterans and their survivors.

DATES: Comments must be submitted on or before June 2, 2006.

FOR FURTHER INFORMATION OR A COPY OF THE SUBMISSION CONTACT: Denise McLamb, Records Management Service (005E3), Department of Veterans Affairs, 810 Vermont Avenue, NW., Washington, DC 20420, (202) 565-8374, FAX (202) 565-6950 or e-mail: denise.mclamb@mail.va.gov. Please refer to “OMB Control No. 2900-New (VDBCS). Send comments and recommendations concerning any aspect of the information collection to VA's OMB Desk Officer, OMB Human Resources and Housing Branch, New Executive Office Building, Room 10235, Washington, DC 20503 (202) 395-7316 or FAX (202) 395-6974. Please refer to “2900-New (VDBCS).

SUPPLEMENTARY INFORMATION: Title: Veterans’ Disability Benefits Commission Survey.

OMB Control Number: 2900-New (VDBCS).

Type of Review: New Collection.

Abstract: The data collected on the Veterans' Disability Benefits Commission Survey will be used to determine whether disabled veterans and their survivors are properly compensated for their loss of quality of life under the current disability rating system. VA will use the data collected to develop an overall measure of disabled veterans and their survivors' quality of life and to modify existing policies already in place for implementing service-connected disability rating scale.

Affected Public: Individuals or households and Not-for-Profit-Institutions.

Estimated Total Annual Burden: 12,703 hours.

Estimated Average Burden Per Respondent: 30 minutes.

Frequency of Response: One time.

Estimated Number of Respondents: 24,739.

Dated: April 21, 2006.
By direction of the Secretary.
Denise McLamb,
Program Analyst, Records Management Service.

[FR Doc. E6-6703 Filed 5-2-06; 8:45 am]

BILLING CODE 8320-01-P